DEPARTMENT OF HEALTH AND HUMAN SERVICES

Centers for Disease Control and Prevention

[60Day-09-09BC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Exploring HIV Prevention Communication Among Black Men Who Have Sex with Men In New York City: Project BROTHA—New—National Center for HIV/AIDS, Viral Hepatitis, Sexually Transmitted Diseases, and Tuberculosis Prevention (NCHHSTP), Centers for Disease Control and Prevention (CDC).

Background and Brief Description: CDC is requesting OMB approval to administer a survey, conduct interviews and offer HIV rapid testing in Black Men who have sex with Men (BMSM) and other Men who have Sex with Men (MSM) in New York City. The purpose of the proposed study is to assess how interpersonal communication within BMSM social networks may be related to risk for HIV infection and attitudes towards HIV testing.

Data collection will occur over the course of 2-3 years. After screening for eligibility, a total of 300 BMSM and other MSM in their social networks will be enrolled in 2 phases: (1) 350 BMSM will be recruited and screened to find 100 eligible BMSM participants, and (2) the 100 first phase participants will then recruit 200 other MSM within their social networks to participate in the second phase. Quantitative surveys will be administered by computers and personal interviews will be conducted to collect qualitative data (at baseline and 3-month follow-up). Participants in both phases will be offered rapid HIV testing, and declining an HIV test will not negatively impact their study participation. The research questions being explored are relevant for understanding how interpersonal communication with members of one's social networks are related to risk for contracting HIV infection and attitudes towards HIV testing.

This study will provide important epidemiologic information useful for the development of HIV prevention interventions for BMSM. Men will complete a 5-minute eligibility screening interview. The baseline computer-based survey will take 45 minutes. The qualitative interview will take approximately 75 minutes. The number of respondents who will accept HIV testing is estimated to be 200 (accounting for those who did not test at baseline and those who do not consent to test at follow-up). HIV counseling and rapid testing will take 45 minutes. The 3-month follow-up survey will take approximately 30 minutes; the follow-up qualitative interview will take approximately 45 minutes. There is no cost to the respondents other than their time.

Estimate of Annualized Burden Table
Respondents | Types of data collection | Number of respondents | Number of responses per respondent | Burden per response (In hours) | Total burden (In hours)
BMSM respondents only: | Screening interview | 750 | 1 | 5/60 | 63
BMSM and other MSM respondents: Baseline | ACASI survey interview | 300 | 1 | 45/60 | 225
| Qualitative interview | 300 | 1 | 1.25 | 375
| HIV testing & counseling | 200 | 1 | 45/60 | 150
BMSM and other MSM respondents: 3 month follow-up | ACASI survey interview | 300 | 1 | 30/60 | 150
| Qualitative interview | 300 | 1 | 45/60 | 225
| HIV testing & counseling | 200 | 1 | 45/60 | 150
Total Burden Hours |  |  |  | 1338

March 12, 2009.
Marilyn S. Radke,
Reports Clearance Officer; Centers for Disease Control and Prevention.

[FR Doc. E9-6939 Filed 3-27-09; 8:45 am]

BILLING CODE 4163-18-P